SMALL BUSINESS ADMINISTRATION

13 CFR Part 108

RIN 3245-AE40

New Markets Venture Capital Program; Correction

AGENCY: U.S. Small Business Administration.

ACTION: Final rule; Withdrawal of interim final rule; Correction.

SUMMARY: The Small Business Administration (SBA) published in the Federal Register of May 23, 2001 (66 FR 28602), a final rule implementing the New Markets Venture Capital Program and withdrawing a previous interim final rule. SBA now makes technical corrections to fix clerical and/or typographical errors in the previously published final rule.

DATES: The technical corrections to this rule are effective on May 23, 2001.

FOR FURTHER INFORMATION CONTACT: Austin Belton, Director, Office of New Markets Venture Capital, 202-205-7027; or Louis Cupp, Policy Analyst, Office of New Markets Venture Capital, 202-619-0511.

SUPPLEMENTARY INFORMATION: The SBA published a final rule in the Federal Register on May 23, 2001 (66 FR 28602) implementing the New Markets Venture Capital Program and withdrawing a previous interim final rule. The published rule contained several clerical and/or typographical errors. Because the errors are not significant in nature and number, SBA believes that listing the corrections is sufficient. Therefore, make the following corrections to FR Doc. 01-12501 published on May 23, 2001 (66 FR 28602):

1. On page 28602, in the first column, under the DATES heading, correct the citation “40 CFR part 108” under the “Withdrawal Date” subheading to read “13 CFR part 108”.

PART 108—[CORRECTED]

2. On page 28610, in the third column, 2d and 1st lines from the bottom, the Authority citation is corrected to read as follows:

Authority: 15 U.S.C. 689-689q.

§ 108.150 [Corrected]

3. On page 28615, in the second column, under § 108.150(c) introductory text, correct the first sentence to read as follows:

§ 108.150 Management and ownership diversity requirement.

* * * * *

(c) * * * At least 30 percent of your Regulatory Capital and Leverageable Capital must be owned and controlled by three Persons unaffiliated with your management and unaffiliated with each other, whose investments are significant in dollar and percentage terms as determined by SBA. * * *

* * * * *

§ 108.2010 [Corrected]

4. On page 28632, in the first column, under § 108.2010(b), last line, correct the citation “48 CFR 31.001” to read “48 CFR 2.101”.

Dated: June 11, 2001.
Harry Haskins,
Acting Associate Administrator for Investment.

[FR Doc. 01-15118 Filed 6-18-01; 8:45 am]

BILLING CODE 8025-01-P